DEPARTMENT OF COMMERCE

National Oceanic and Atmospheric Administration

50 CFR Part 660

[Docket No. 010502110-1110-01; I.D. 042401D]

RIN 0648-AO49

Fisheries Off West Coast States and in the Western Pacific; West Coast Salmon Fisheries; 2001 Management Measures

AGENCY: National Marine Fisheries Service (NMFS), National Oceanic and Atmospheric Administration (NOAA), Commerce.

ACTION: Annual management measures for the ocean salmon fishery; request for comments.

SUMMARY: NMFS establishes fishery management measures for the 2001 ocean salmon fisheries off Washington, Oregon, and California and the 2002 salmon seasons opening earlier than May 1, 2002. Specific fishery management measures vary by fishery and by area. The measures establish fishing areas, seasons, quotas, legal gear, recreational fishing days and catch limits, possession and landing restrictions, and minimum lengths for salmon taken in the U.S. exclusive economic zone (EEZ) (3-200 nm) off Washington, Oregon, and California. The management measures are intended to prevent overfishing and to apportion the ocean harvest equitably among treaty Indian and non-treaty commercial and recreational fisheries. The measures are also intended to allow a portion of the salmon runs to escape the ocean fisheries in order to provide for spawning escapement and for inside fisheries (fisheries occurring in state internal waters).

DATES: Effective from 0001 hours Pacific Daylight Time, May 2, 2001, until the effective date of the 2002 management measures, as published in the Federal Register. Comments must be received by May 23, 2001.

ADDRESSES: Comments on the management measures and the related environmental assessment (EA) may be sent to Donna Darm, Acting Regional Administrator, Northwest Region, NMFS, 7600 Sand Point Way N.E., Seattle, WA 98115-0070, fax: 206-526-6376; or to Rebecca Lent, Regional Administrator, Southwest Region, NMFS, 501 West Ocean Boulevard, Suite 4200, Long Beach, CA 90802-4213, fax: 562-980-4018. Comments will not be accepted if submitted via e-mail or Internet.

Copies of the EA and other documents cited in this document are available from Dr. Donald O. McIsaac, Executive Director, Pacific Fishery Management Council, 2130 S.W. Fifth Ave., Suite 224, Portland, OR 97201.

Send comments regarding the reporting burden estimate or any other aspect of the collection-of-information requirements in these management measures, including suggestions for reducing the burden, to one of the NMFS addresses and to the Office of Management and Budget (OMB), Washigton, D.C. 20503 (ATTN: NOAA Desk Officer).

FOR FURTHER INFORMATION CONTACT: William L. Robinson at 206-526-6140, or Svein Fougner at 562-980-4040.

SUPPLEMENTARY INFORMATION:

Background

The ocean salmon fisheries in the EEZ off Washington, Oregon, and California are managed under a “framework” fishery management plan entitled the Pacific Coast Salmon Plan (Salmon FMP). Regulations at 50 CFR part 660, subpart H, provide the mechanism for making preseason and inseason adjustments to the management measures, within limits set by the Salmon FMP, by notification in the Federal Register.

These management measures for the 2001 and pre-May 2002 ocean salmon fisheries were recommended by the Pacific Fishery Management Council (Council) at its April 3 to 6, 2001, meeting.

Schedule Used to Establish 2001 Management Measures

In accordance with the Salmon FMP, the Council's Salmon Technical Team (STT) and staff economist prepared a series of reports for the Council, its advisors, and the public. The first of the reports was prepared in February when the necessary scientific information first became available. The first report, “Review of 2000 Ocean Salmon Fisheries” (REVIEW), summarizes biological and socio-economic data for the 2000 ocean salmon fisheries and assesses how well the Council's 2000 management objectives were met. The second report, “Preseason Report I Stock Abundance Analysis for 2001 Ocean Salmon Fisheries” (PRE I), provides the 2001 salmon stock abundance projections and analyzes the impacts on the stocks and Council management goals if the 2000 regulations and regulatory procedures were applied to the 2001 stock abundances.

The Council met in Portland, OR from March 5 to 9, 2001, to develop 2001 management options for proposal. Three commercial and three recreational fishery management options were proposed for analysis and public comment. These options consisted of various combinations of management measures designed to protect weak stocks of coho and chinook salmon and to provide for ocean harvests of more abundant stocks. After the March Council meeting, the Council’s STT and staff economist prepared a third report, “Preseason Report II Analysis of Proposed Regulatory Options for 2001 Ocean Salmon Fisheries”, which analyzes the effects of the proposed 2001 management options. This report also was made available to the Council, its advisors, and the public.

Public hearings to receive public testimony on the proposed options were held on: March 26, 2001, in Westport, WA and Coos Bay, OR; March 27, 2001, in Tillamook, OR and Eureka, CA; and March 28, 2001, in Moss Landing, CA. The Council also received public testimony at both the March and April meetings, and received written comments at the Council office.

The Council met on April 3 to 6, 2001, in Sacramento, CA to adopt its final 2001 recommendations. Following the April Council meeting, the Council’s STT and staff economist prepared a fourth report, “Preseason Report III Analysis of Council-Adopted Management Measures for 2001 Ocean Salmon Fisheries,” which analyzes the environmental and socio-economic effects of the Council's final recommendations. This report also was made available to the Council, its advisors, and the public. After the Council took final action on the annual ocean salmon specifications in April, it published the recommended management measures in its newsletter.

Resource Status

Since 1989, NMFS has listed under the Endangered Species Act (ESA) 16 evolutionarily significant units (ESUs) of salmon on the West Coast. As the listings have occurred, NMFS has conducted formal ESA section 7 consultations and issued biological opinions (BOs) that consider the impacts to listed salmonid species resulting from proposed implementation of the salmon FMP, or in some cases, from proposed implementation of the annual management measures. Associated with the BOs are incidental take statements that specify the level of take that is exempted from the section 9 prohibitions of the ESA (consultation standards). Some of the BOs have concluded that implementation of the salmon FMP is not likely to jeopardize the continued existence of certain listed ESUs. Other BOs have found that implementation of the salmon FMP is likely to jeopardize certain listed ESUs and have identified reasonable and prudent alternatives that would avoid the likelihood of jeopardizing the continued existence of the ESU under consideration. In a March 2, 2001, letter to the Council, NMFS provided the Council with ESA standards and guidance for the management of stocks listed under the ESA in anticipation of the BOs in preparation for the 2001 management season.

Estimates of the 2000 spawning escapements for key stocks managed under the salmon FMP and preseason estimates of 2001 ocean abundance are provided in the Council's REVIEW and PRE I documents. The primary resource and management concerns are for salmon stocks listed under the ESA.

NMFS has listed three ESUs of coho under the ESA: central California coastal, southern Oregon/northern California coastal, and Oregon coastal. The three northern sub-stocks of Oregon coastal natural (OCN) coho comprise the Oregon coastal coho ESU. OCN coho are the largest naturally produced component of the natural and hatchery coho stocks originating from rivers south of Leadbetter Point, WA. OCN coho are managed as a stock aggregate with four identified sub-stocks that include coho produced from Oregon river and lake systems south of the Columbia River. NMFS' ESA consultation standards require that the three OCN northern sub-stocks be managed in accordance with Amendment 13 to the Salmon FMP, which permits an exploitation rate of up to 15 percent under the current level of ocean survival. The southern sub-stock is part of the southern Oregon/northern California coastal ESU and must be managed in accordance with the requirements for that ESU. The 2001 ocean abundance estimate for OCN is 50,100 coho, which is 90 percent of the 2000 preseason prediction of 55,900 coho, but represents a 72 percent increase above the post-season estimate of the 1998 parent brood (PRE I).

Central California coastal coho and southern Oregon/northern California coastal coho are listed as threatened species under the ESA (61 FR 56138, October 31, 1996, and 62 FR 24588, May 6, 1997). Coho populations in California have not been monitored closely in the past, and no forecasts of the ocean abundance of listed coho originating from California are available; these runs have been generally at low abundance levels for many years. NMFS' ESA consultation standards for the southern Oregon/northern California coastal coho and Central California coastal coho ESUs require that the ocean exploitation rate on Rogue/Klamath hatchery coho be constrained to 13 percent or less, and that the retention of coho in recreational and commercial fisheries off California be prohibited.

Sacramento River winter chinook is listed as an endangered species under the ESA (59 FR 440, January 4, 1994). NMFS' ESA consultation standard requires that all harvest-related impacts to the Sacramento River winter chinook salmon population be reduced by a level that would achieve at least a 31 percent increase in the age-3 spawner-to-spawner replacement rate over a base period of 1989 through 1993. The 2000 spawning run size was estimated to be 560 adults, similar to the estimated 1997 adult escapement. Neither preseason nor postseason estimates of ocean abundance are available for winter chinook; however, the run is expected to remain depressed in 2001.

California coastal chinook is listed as a threatened species under the ESA (64 FR 50394, September 16, 1999). Coastal chinook spawning populations are not well monitored and no estimate of an ocean exploitation rate is available. NMFS’ ESA consultation standard for California coastal chinook requires that the ocean harvest rate on Klamath River fall chinook not exceed 17 percent, which is the maximum observed since 1996. The standard is intended to prevent harvest impacts on California coastal chinook from increasing substantially above levels that have occurred since 1996, the year in which additional ocean harvest constraints were introduced to protect Sacramento River winter chinook.

California Central Valley spring chinook is listed as a threatened species under the ESA (64 FR 50394, September 16, 1999). Since 1994, the 3-year replacement rates of Central Valley spring chinook returning to Deer and Butte Creeks have consistently increased, with relatively strong returns to Butte Creek. NMFS’ ESA consultation standard for Central Valley spring chinook requires continued implementation of ESA consultation standards to protect Sacramento River winter chinook.

Snake River wild fall chinook is listed under the ESA as a threatened species (57 FR 14653, April 22, 1992). Information on the stock's ocean distribution and on fishery impacts is not available. Fishery impacts on Snake River fall chinook are evaluated using the Lyons Ferry Hatchery stock. The Lyons Ferry stock is widely distributed and harvested by ocean fisheries from southern California to Alaska. NMFS' ESA consultation standard requires that Council fisheries must be managed to ensure that the exploitation rate on age-3 and age-4 adults for the combined Southeast Alaska, Canadian, and Council fisheries is 30 percent less than that observed during the 1988-1993 base period.

This is the second year that NMFS provided guidance to the Council related to the Puget Sound chinook ESU. NMFS' consultation standards for Puget Sound chinook stocks are expressed in terms of total or southern U.S. fishery exploitation rate ceilings, or terminal escapement objectives. Under the current management structure, Council fisheries are included as part of the suite of fisheries that comprise the fishing regime negotiated each year by the co-managers under U.S. v. Washington to meet management objectives for Puget Sound and Washington Coastal salmon stocks. The comprehensive nature of the management objectives and the management planning structure strongly connect Council and Puget Sound fisheries. Therefore, in adopting its regulations, the Council must determine that its fisheries in the ocean, when combined with the suite of other fisheries impacting this ESU, meet the management targets set for stocks within this ESU. NMFS estimated in its ESA BO for 2000 fisheries that the exploitation rates from Council-managed fisheries on Puget Sound spring and fall chinook stock aggregates have been zero and three percent or less, respectively, in recent years. Management actions taken to meet exploitation rate targets will, therefore, occur primarily in the Puget Sound fisheries, but the nature of the existing process is such that ocean fishery impacts will be accounted for, and are potentially liable to constraining measures to meet particular targets.

NMFS has evaluated the “Puget Sound Comprehensive Chinook Management Plan: Harvest Management Component as a Resource Management Plan” (RMP) for Puget Sound chinook under the recently adopted ESA section 4(d) rule (65 FR 42422, July 10, 2000). The RMP, jointly developed by the Washington Department of Fish and Wildlife (WDFW) and the Puget Sound Treaty Tribes, includes stock-specific harvest management objectives for Puget Sound chinook. NMFS has determined that the RMP is consistent with the ESA section 4(d) rule, and that the 2001 ocean and inside fisheries are consistent with the RMP. In addition, the 2001 and pre-May 2002 management measures are consistent with the standards set to avoid jeopardy in the above BO.

Management Measures for 2001 Fisheries

The Council recommended ocean harvest levels and management measures for 2001 are designed to apportion the burden of protecting the weak stocks identified and discussed in PRE I equitably among ocean fisheries and to allow maximum harvest of natural and hatchery run surplus to inside fishery and spawning needs. NMFS finds the Council's recommendations responsive to the goals of the salmon FMP, the requirements of the resource, and the socio-economic factors affecting resource users. The recommendations are consistent with the requirements of the Magnuson-Stevens Fishery Conservation and Management Act (Magnuson-Stevens Act) and other applicable law, including the ESA and U.S. obligations to Indian tribes with federally recognized fishing rights. Accordingly, NMFS has adopted them.

The dominant issues before the Council were achieving an acceptable ocean exploitation rate on OCN and southern Oregon/northern California coho, meeting NMFS' ESA consultation standards for Sacramento River winter chinook, California coastal chinook, and Puget Sound chinook, and equitably allocating the Klamath River fall chinook harvest.

Amendment 13 establishes the allowable harvest rates for OCN coho. When the Council adopted Amendment 13 in 1997, it stipulated that the amendment should be reviewed and updated on a periodic basis beginning in 2000. In November of 1999, the Council approved the formation of an ad hoc OCN workgroup to complete the review. The subsequent report recommended several changes to the original management matrix including a lower range of harvest rates when spawner abundance and marine survival are very low. At its November, 2000, meeting the Council adopted the OCN workgroup report as “expert biological advice to help guide Council management of OCN coho.” The report recommended that harvest rates be limited to the range of between 0 and 8 percent when the status of parental spawners is “critical” for any of the sub-aggregate populations regardless of marine survival. This is the circumstance the Council faced this year. Even though the marine survival will be in the medium category, the applicable parental spawner status is critical, and the OCN workgroup report recommended a 0 to 8 percent exploitation rate. The guidance provided by the workgroup report given the circumstances for 2001 are more specific and more conservative than under the original Amendment 13 management matrix. The Council's recommended measures are expected to produce a 7.4-percent OCN coho exploitation rate (freshwater and marine) and a 3.0 percent marine exploitation rate impact for Rogue/Klamath coho, which are the index stocks for the southern Oregon/northern California coho stocks. Retention of coho off California continues to be prohibited for the seventh consecutive year.

From the U.S.-Canada border to Cape Falcon, OR, ocean fisheries are managed to protect depressed lower Columbia River fall chinook salmon and Washington coastal and Puget Sound natural coho salmon stocks, and to meet ESA requirements for Snake River fall chinook salmon. Ocean treaty and non-treaty harvests and management measures were based in part on negotiations between Washington State fishery managers, commercial and recreational fishing groups, and the Washington coastal, Puget Sound, and Columbia River treaty Indian tribes as authorized by the U.S. District Court in U.S. v. Washington, U.S. v. Oregon,and Hoh Indian Tribe v. Baldrige.

North of Cape Falcon, OR, the 2001 management measures are more liberal than the 2000 season measures. The total allowable catch for 2001 is 60,000 chinook and 300,000 coho; these fisheries are restricted to protect depressed Washington coastal, Puget Sound, and OCN coho. Washington coastal and Puget Sound chinook generally migrate to the far north and are affected insignificantly by ocean harvests from Cape Falcon to the U.S.-Canada border.

South of Cape Falcon, OR, the retention of coho is prohibited, except for a recreational selective fishery off Oregon in July with a 55,000-fish quota of marked hatchery coho. Chinook fisheries are constrained primarily to meet the ESA standards for California coastal chinook and Sacramento River winter chinook. As a result of these constraints and the high abundance forecast for age-4 Klamath River fall chinook, an unusually large number of fall chinook are predicted to be available for in-river harvest in the Klamath-Trinity Basin. These constraints also limit impacts on threatened Snake River fall chinook and Central Valley spring chinook, and limit hook-and-release mortality on Oregon coastal coho, southern Oregon/northern California coastal coho, and central California coho. Size limit, gear, and seasonal restrictions are intended to reduce harvest impacts on ESA listed stocks.

Treaty Indian Fisheries

The treaty-Indian commercial troll fishery quota is 37,000 chinook in ocean management areas and Area 4B combined. The fisheries includes a chinook-directed fishery in May and June (under a quota of 18,500 chinook) and an all-salmon season beginning in July with a 18,500 chinook sub-quota. The expected 2001 harvest would be an increase from the observed harvest in 2000. The coho quota for the treaty-Indian troll fishery in ocean management areas, including Washington State Statistical Area 4B for the July-September period is 90,000 coho, a significant increase from 2000.

2002 Fisheries

The timing of the March and April Council meetings makes it impracticable for the Council to recommend fishing seasons that begin before May 1 of the same year. Therefore, the 2002 fishing seasons opening earlier than May 1 are also established in this action. The Council recommended, and NMFS concurs, that the recreational seasons from Horse Mountain to the U.S.-Mexico Border will open off California in 2001 as indicated in the season description section. At the November 2001 meeting, the Council will consider a recommendation to open recreational seasons for all salmon except coho prior to April 13 in areas off California between Pt. Arena and the U.S.-Mexico border. At the March 2002 meeting, the Council will consider inseason recommendations to (1) open commercial seasons for all salmon except coho prior to May 1 in areas off Oregon and off California south of Point Sur, (2) open recreational seasons for all salmon except coho prior to May 1 in areas off Oregon, and (3) identify the areas, season, quota, and special regulations for any experimental April fisheries (proposals must meet Council protocol and be received in November 2001).

Inseason Actions

The following sections set out the management regime for the salmon fishery. Open seasons and days are described in Sections 1, 2, and 3 of the 2001 management measures. Inseason closures in the commercial and recreational fisheries are announced on the NMFS hotline and through the U.S. Coast Guard Notice to Mariners as described in Section 7. Other inseason adjustments to management measures are also announced on the hotline and through the Notice to Mariners.

The following are the management measures recommended by the Council and approved and implemented by NMFS for 2001 and, as specified, for 2002.

Section 1. Commercial Management Measures for 2001 Ocean Salmon Fisheries

Note: This section contains restrictions in parts A, B, and C that must be followed for lawful participation in the fishery.

A. Season Description—North of Cape Falcon

U.S—Canada Border to Cape Falcon

May 1 through earlier of June 30 or 17,000-chinook guideline (see C.7.a). All salmon except coho. No more than 4 spreads per line beginning June 1 (see gear restrictions in C.2). Cape Flattery and Columbia Control Zones closed (C.4.a and C.4.b). The 17,000-chinook guideline includes a subarea guideline of 12,000 chinook for the area between the U.S.-Canada border and the Queets River. State regulations require that fishers fishing within the U.S.-Canada Border to Queets River subarea, and intending to land their catch outside of this subarea, notify WDFW before they leave the subarea. Vessels must land and deliver their fish within the area or in adjacent areas that are closed to all commercial non-Indian salmon fishing, and within 24 hours of any closure of this fishery. Inseason actions may modify harvest guidelines in later fisheries to achieve or prevent exceeding the overall allowable troll harvest impacts (see C.7.a).

U.S—Canada Border to Leadbetter Pt.

July 1 through earliest of July 27 or 7,000-chinook preseason guideline (see C.7.a) or 12,000 marked coho guideline. All salmon (all retained coho must have a healed adipose fin clip). The 7,000-chinook guideline includes a subarea guideline of 4,000 chinook for the area between the U.S.-Canada border and the Queets River. Gear restricted to plugs 6 inches (15.2 cm) or longer; no more than 4 spreads per line plus 1 flasher w/o hooks (see also C.2). Cape Flattery Control Zone closed (C.4.a). Trip limits, gear restrictions, and guidelines may be implemented or adjusted inseason. Fishery is continuous until 75 percent of either guideline is caught, then it reverts to 4 days open/3 days closed. Vessels must land and deliver their fish within the area or in adjacent areas that are closed to all commercial non-Indian salmon fishing, and within 24 hours of any closure of this fishery. State regulations require that fishers fishing within the U.S.-Canada Border to Queets River subarea, and intending to land their catch outside of this subarea, notify WDFW before they leave the subarea.

Leadbetter Point to Cape Falcon

July 20 through July 27. Catch in this fishery will be assessed against the 6,000 chinook and 63,000 marked coho guidelines in the Queets River to Cape Falcon fishery. All salmon (all retained coho must have a healed adipose fin clip). See gear restrictions in C.2. Trip limits, gear restrictions, and guidelines (see C.7.a) may be instituted or adjusted inseason. Vessels must land and deliver their fish within the area or in adjacent areas that are closed to all commercial non-Indian salmon fishing, and within 24 hours of any closure of this fishery. Columbia River Control Zone is closed (C.4.b).

Queets River to Cape Falcon

The earlier of the day following closure of the U.S.-Canada Border to Leadbetter Pt. July troll fishery or July 28, but not before July 20, through earliest of September 30 or the overall chinook quota (preseason 6,000-chinook guideline; see C.7.a.) or 63,000 marked coho guideline. All salmon (all retained coho must have a healed adipose fin clip). See gear restrictions in C.2. Fishery continuous until 75 percent of either guideline caught, then reverts to a cycle of 4 days open/3 days closed. Trip limits, gear restrictions, and guidelines may be instituted or adjusted inseason. Vessels must land and deliver their fish within the area or in adjacent areas that are closed to all commercial non-Indian salmon fishing, and within 24 hours of any closure of this fishery. Columbia River Control Zone is closed (C.4.b).

South of Cape Falcon

Cape Falcon to Florence South Jetty

April 1 through July 18; July 27 through August 29; and September 1 through October 31. All salmon except coho. See gear restrictions C.2 and Oregon State regulations for a description of the closed area at the mouth of Tillamook Bay. [Note: Incidental retention of halibut is not allowed until May 1.]

Florence South Jetty to Humbug Mt.

April 1 through July 9; July 18 through August 29; and September 1 through October 31. All salmon except coho. See gear restrictions in C.2.

Humbug Mt. to OR-CA Border

May 1 through May 31. All salmon except coho. See gear restriction C.2.

June 3 through earlier of June 30 or 1,500-chinook. All salmon except coho. Fishery follows a cycle of 2 days open/2 days closed (may be adjusted inseason to match management needs). Possession and landing limit of 30 fish per day. See gear restrictions C.2. All salmon must be landed and delivered to Gold Beach, Port Orford, or Brookings within 24 hours of closure.

August 1 through earlier of August 31 or 3,000-chinook quota. All salmon except coho. Possession and landing limit of 30 fish per day. See gear restrictions C.2. All salmon must be landed and delivered to Gold Beach, Port Orford, or Brookings within 24 hours of closure.

Humbug Mt., OR to Humboldt South Jetty

September 1 through earlier of September 30 or 8,000-chinook quota. All salmon except coho. Possession and landing limit of 30 fish per day. All fish caught in this area must be landed within the area. See gear restrictions in C.2. Klamath Control Zone closed (C.4.). The 8,000-chinook quota includes a harvest guideline limiting the combined landings at the ports of Gold Beach, Port Orford, and Brookings to no more than 2,000 chinook. If this guideline is reached prior to the overall quota, the fishery will close north of the Oregon-California border. When the fishery is closed north of the Oregon-California border and open to the south, Oregon State regulations provide for the following action: Vessels with fish on board caught in the open area off California may seek temporary mooring in Brookings, OR prior to landing in California only if such vessels first notify the Chetco River Coast Guard Station via VHF channel 22A between the hours of 0500 and 2200 and provide the vessel name, number of fish on board, and estimated time of arrival.

Horse Mt. to Pt. Arena (Fort Bragg)

May 1 through earlier of May 31 or 3,000-chinook quota. All salmon except coho. All fish caught in this area must be landed within the area. Minimum size 26 inches (66 cm). See gear restrictions in C.2.

September 1 through September 30. All salmon except coho. Minimum size 26 inches (66 cm). See gear restrictions in C.2.

Pt. Arena to Pt. Reyes (Bodega Bay)

June 24 through September 30. All salmon except coho. Minimum size limit 26 inches (66 cm) through June 30 and 27 inches (68.6 cm) thereafter. See gear restrictions in C.2.

Pt. Reyes to Pt. San Pedro

May 24 through September 30. All salmon except coho. Minimum size 26 inches (66 cm) through June 30 and 27 inches (68.6 cm) thereafter. See gear restrictions in C.2.

Mon. through Fri. October 1 through October 12. All salmon except coho. Minimum size 27 inches (68.6 cm). See gear restrictions in C.2.

Pt. San Pedro to Pt. Sur

May 1 through August 14. All salmon except coho. Minimum size limit 26 inches (66 cm) through June 30 and 27 inches (68.6 cm) thereafter. See gear restrictions in C.2.

Pt. Sur to U.S.-Mexico Border

May 1 through August 14 and September 11 through September 30. All salmon except coho. Minimum size 26 inches (66 cm) through June 30 and 27 inches (68.6 cm) thereafter. See gear restrictions C.2.

In 2002, Council to consider opening a fishery from April. 15-30 south of Pt. Sur (see C.7.b).

B. Minimum Size (Inches)
Area (when open) | Chinook: Total Length | Chinook: Head-off | Coho: Total Length | Coho: Head-off | Pink
North of Cape Falcon | 28.0 | 21.5 | 16.0 | 12.0 | None
Cape Falcon to Pt. Arena | 26.0 ᵃ | 19.5ᵃ |  |  | None
South of Pt. Arena prior to July 1 | 26.0ᵃ | 19.5 ᵃ |  |  | None
South of Pt. Arena after June 30 | 27.0ᵃ | 20.25ᵃ |  |  | None
ᵃ Chinook not less than 26 in (19.5 in head-off) taken in open seasons south of Cape Falcon may be landed north of Cape Falcon only when the season is closed north of Cape Falcon.
Metric equivalents: 28.0 in=71.1 cm, 27.0 in=68.6 cm, 26.0 in=66.0 cm, 21.5 in=54.6 cm, 20.25 in=51.4 cm, 19.5 in= 49.5 cm, 16.0 in=40.6 cm, 12.0 in=30.5 cm.

C. Special Requirements, Definitions, Restrictions, or Exceptions

C.1. Compliance with Minimum Size or Other Special Restrictions:

All salmon on board a vessel must meet the minimum size or other special requirements for the area being fished and the area in which they are landed if that area is open. Salmon may be landed in an area that is closed only if they meet the minimum size or other special requirements for the area in which they were caught.

C.2. Gear Restrictions:

a. Single point, single shank, barbless hooks are required in all fisheries.

b. Off Oregon South of Cape Falcon: No more than 4 spreads are allowed per line.

Spread defined: A single leader connected to an individual lure or bait.

c. Off California: No more than 6 lines are allowed per vessel and barbless circle hooks are required when fishing with bait by any means other than trolling.

Circle hook defined: A hook with a generally circular shape and a point which turns inward, pointing directly to the shank at a 90° angle.

Trolling defined: Fishing from a boat or floating device that is making way by means of a source of power, other than drifting by means of the prevailing water current or weather conditions.

C.3. Transit Through Closed Areas with Salmon on Board: It is unlawful for a vessel to have troll or recreational gear in the water while transiting any area closed to salmon fishing while possessing salmon; however, fishing for species other than salmon is not prohibited if the area is open for such species and no salmon are in possession.

C.4. Control Zone Definitions:

a. Cape Flattery Control Zone—The area from Cape Flattery (48°23′00″ N. lat.) to the northern boundary of the U.S. EEZ; and the area from Cape Flattery south to Cape Alava, 48°10′00″ N. lat. and east of 125°05′00″ W. long.

b. Columbia Control Zone—An area at the Columbia River mouth, bounded on the west by a line running northeast/ southwest between red lighted Buoy #4 (46°13′35″ N. lat., 124°06′50″ W. long.) and green lighted Buoy #7 (46°15′09″ N. lat., 124°06′16″ W. long.); on the east, by the Buoy #10 line which bears north/south at 357° true from the south jetty at 46°14′00″ N. lat., 124°03′07″ W. long. to its intersection with the north jetty; on the north, by a line running northeast/southwest between green lighted Buoy #7 to the tip of the north jetty (46°14′48″ N. lat., 124°05′20″ W. long.) and then along the north jetty to the point of intersection with the Buoy #10 line; and, on the south, by a line running northeast/southwest between red lighted Buoy #4 and the tip of the south jetty (46°14′03″ N. lat., 124°04′05″ W. long.), and then along the south jetty to the point of intersection with the Buoy #10 line.

c. Klamath Control Zone—The ocean area at the Klamath River mouth bounded on the north by 41°38′48″ N. lat. (approximately 6 nm (11.1 km) north of the Klamath River mouth); on the west, by 124°23′00″ W. long. (approximately 12 nm (22.2 km) off shore); and, on the south, by 41°26′48″ N. lat. (approximately 6 nm (11.1 km) south of the Klamath River mouth).

C.5. Notification When Unsafe Conditions Prevent Compliance with Regulations: If prevented by unsafe weather conditions or mechanical problems from meeting special management area landing restrictions, vessels must notify the U.S. Coast Guard and receive acknowledgment of such notification prior to leaving the area. This notification shall include the name of the vessel, port where delivery will be made, approximate amount of salmon (by species) on board, and the estimated time of arrival.

C.6. Incidental Halibut Harvest: During authorized periods, the operator of a vessel that has been issued an incidental halibut harvest license may retain Pacific halibut caught incidentally in Area 2A while trolling for salmon. License applications for incidental harvest must be obtained from the International Pacific Halibut Commission (phone 206-634-1838). Applicants must apply prior to April 1 of each year. Incidental harvest is authorized only during May and June troll seasons and after June 30 if quota remains and if announced on the NMFS hotline (phone 800-662-9825). Oregon Department of Fish and Wildlife (ODFW) and WDFW will monitor landings. If the landings are projected to exceed the 34,046-lb (15.5-mt) preseason allocation or the total Area 2A non-Indian commercial halibut allocation, NMFS will take inseason action to close the incidental halibut fishery. License holders may land no more than 1 halibut per each 3 chinook, (except 1 halibut may be landed without meeting the ratio requirement), and no more than 35 halibut may be landed per trip. Halibut retained must be no less than 32 in (81.3 cm) in total length (with head on).

C.7. Inseason Management: In addition to standard inseason actions or modifications already noted under the season description, the following inseason adjustments may be implemented:

a. After the May/June non-Indian commercial salmon fishery north of Cape Falcon, if the entire 17,000 chinook harvest guideline has not been taken, up to 5,000 chinook may be transferred to the Queets River to Cape Falcon July-September harvest guideline at a one-to-one rate. Any chinook uncaught from the May/June fishery in excess of 5,000 may be transferred to the July-September fishery on a fishery impact equivalent basis.

b. At the March 2002 meeting, the Council will consider inseason recommendations to: (1) open commercial seasons for all salmon except coho prior to May 1 in areas off Oregon and off California south of Point Sur, and (2) identify the areas, season, quota, and special regulations for any experimental April fisheries (proposals must meet Council protocol and be received by November 2001).

C.8. Consistent with Council management objectives, the State of Oregon may establish additional late-season, chinook-only fisheries in state waters. Check state regulations for details.

C.9. For the purposes of California Department of Fish and Game (CDFG) Code, Section 8232.5, the definition of the KMZ for the ocean salmon season is that area from Humbug Mt., OR to Horse Mt., CA.

Section 2. Recreational Management Measures for 2001 Ocean Salmon Fisheries

Note: This section contains restrictions in parts A, B, and C that must be followed for lawful participation in the fishery.

A. Season Description—North of Cape Falcon

U.S.—Canada Border to Cape Alava (Neah Bay Area)

July 1 through earlier of September 30 or 23,400-coho subarea quota. All salmon (7 days per week), 2 fish per day, but only 1 chinook, and all retained coho must have a healed adipose fin clip. Chinook non-retention in Area 4B unless modified by inseason management. Inseason management (C.4) may be used to sustain season length and keep harvest within a guideline of 1,700 chinook.

Cape Alava to Queets River (La Push Area)

July 1 through earlier of September 23 or subarea sub-quota of 5,350 coho; September 24 through earlier of October 21 or overall subarea quota of 5,850 (500 set-aside) coho. All salmon (7 days per week), 2 fish per day, but only 1 chinook, and all retained coho must have a healed adipose fin clip. Inseason management (C.4) may be used to sustain season length and keep harvest within a guideline of 1,000 chinook for the general season and 100 chinook for the set-aside season.

Queets River to Leadbetter Pt. (Westport Area)

Sunday through Thursday July 1 through earlier of September 30 or 83,250 coho subarea quota; All salmon. 2 fish per day, but only 1 chinook and all retained coho must have a healed adipose fin clip. Inseason management (C.4) may be used to maintain season length and limit harvest within a guideline of 19,450 chinook.

Leadbetter Pt. to Cape Falcon (Columbia River Area)

Sunday through Thursday July 1 through earlier of September 3 or subarea sub-quota of 102,500 coho; Tillamook Head to North Head Lighthouse, 7 days per week, September 4 through earlier of September 30 or overall subarea quota of 112,500 coho (10,000 set-aside). All salmon. 2 fish per day, but only 1 chinook and all retained coho must have a healed adipose fin clip. Closed between Tillamook Head and Cape Falcon beginning August 1. Closed in Recreational Columbia Control Zone (C.3.a). Inseason management (C.4) may be used to sustain season length and limit harvest within a guideline of 7,750 chinook.

South of Cape Falcon

Cape Falcon to Humbug Mt.

Except as provided below during the selective fishery, the season is: April 1 through October 31; all salmon except coho; 2 fish per day; no more than 6 fish in 7 consecutive days. See gear restrictions in C.2.a and C.2.b. See Oregon State regulations for a description of a closure at the mouth of Tillamook Bay.

Selective fishery for marked hatchery coho: June 22 through earlier of July 31 or a landed catch of 55,000 coho. All salmon. 2 fish per day, all retained coho must have a healed adipose fin clip. No more than 6 fish in 7 consecutive days. All salmon except coho season reopens the earlier of August 1 or attainment of the coho quota.

Humbug Mt. to Horse Mt. (Klamath Management Zone)

May 17 through July 8 and July 24 through September 3. All salmon except coho. 2 fish per day. From May 17 through July 8, no more than 4 fish in 7 consecutive days. Beginning July 24, no more than 6 fish in 7 consecutive days. See gear restrictions in C.2. Klamath Control Zone (C.3.b) closed during August.

Horse Mt. to Pt. Arena (Fort Bragg)

February 17 through November 18; All salmon except coho; 2 fish per day. Minimum size 24 inches (61 cm) through May 31, and 20 inches (50.8 cm) thereafter. Gear restrictions include: one rod per angler, no more than 2 barbless hooks, and circle hooks when not trolling (C.2.a, C.2.c and C.2.d).

In 2002, the season opens February 16 (nearest Saturday to February 15) for all salmon except coho. 2 fish per day, 24-inch (61-cm) minimum size limit and the same gear restrictions as in 2001.

Pt. Arena to Pigeon Pt.

April 14 through November 13; All salmon except coho; 2 fish per day. Minimum size limit 24 inches (61 cm) through June 30, and 20 inches (50.8 cm) thereafter. One rod per angler. Gear restrictions include: one rod per angler, no more than 2 barbless hooks, and circle hooks when not trolling (C.2.a, C.2.c, and C.2.d).

In 2002, the season opens April 13 for all salmon except coho; 2 fish per day, 24-inch (61-cm) minimum size limit and the same gear restrictions as in 2001. This opening could be modified to allow an earlier opening date following Council review at its November 2001 meeting.

Pigeon Pt. to U.S.-Mexico Border

March 31 through September 30. All salmon except coho; 2 fish per day. Minimum size limit 24 inches (61 cm) through June 30, and 20 inches (50.8 cm) thereafter. Gear restrictions include: one rod per angler, no more than 2 barbless hooks, and circle hooks when not trolling (C.2.a, C.2.c, and C.2.d).

In 2002, the season opens March 30 for all salmon except coho; 2 fish per day, 24-inch (61-cm) minimum size limit and the same gear restrictions as in 2001. This opening date could be modified to an earlier opening date following Council review at its November 2001 meeting.

B. Minimum Size (Inches)
Area (when open) | Chinook | Coho | Pink
North of Cape Falcon | 24.0 | 16.0 | None
Cape Falcon to Horse Mt. | 20.0 | 16.0 | None, except 20.0 off CA
Horse Mt. to Pt. Arena | 20.0ᵃ |  | 20.0
South of Pt. Arena | 20.0ᵇ |  | 20.0
ᵃ Except 24.0 inches prior to June 1.
ᵇ Except 24.0 inches prior to July 1.
Metric equivalents: 24.0 in=61.0 cm, 20.0 in=50.8 cm, 16.0 in=40.6 cm.

C. Special Requirements, Definitions, Restrictions, or Exceptions

C.1. All salmon on board a vessel must meet the minimum size or other special requirements for the area being fished, and the area in which they are landed if that area is open. Salmon may be landed in an area that is closed only if they meet the minimum size or other special requirements for the area in which they were caught.

C.2.Gear Restrictions: All persons fishing for salmon, and all persons fishing from a boat with salmon on board must meet the gear restrictions listed below for specific areas or seasons.

a. U.S.—Canada Border to Pt. Conception, California: No more than one rod may be used per angler and single point, single shank, barbless hooks are required for all fishing gear. (Note: ODFW regulations in the state-water fishery off Tillamook Bay may allow the use of barbed hooks to be consistent with inside regulations.)

b. Off Oregon between Cape Falcon and Humbug Mt.:

April 1-30: Anglers are limited to artificial lures and plugs of any size, or bait no less than 6 inches (15.2 cm) long (excluding hooks and swivels). All gear must have no more than 2 single point, single shank, barbless hooks. Divers are prohibited and flashers may be used only with downriggers.

May 1 through October 31: No special gear restrictions other than anglers must use no more than 2 single point, single shank, barbless hooks.

c. Off California North of Pt. Conception: Anglers must use no more than 2 single point, single shank, barbless hooks.

d. Off California between Horse Mt. and Pt. Conception: Off California between Horse Mt. and Pt. Conception: Single point, single shank, barbless circle hooks (see circle hook definition below) must be used if angling with bait by any means other than trolling and no more than 2 such hooks shall be used. When angling with 2 hooks, the distance between the hooks must not exceed 5 inches (12.7 cm) when measured from the top of the eye of the top hook to the inner base of the curve of the lower hook, and both hooks must be permanently tied in place (hard tied). Circle hooks are not required when artificial lures are used without bait.

Circle hook defined: A hook with a generally circular shape and a point which turns inward, pointing directly to the shank at a 90° angle.

Trolling defined: Angling from a boat or floating device that is making way by means of a source of power, other than drifting by means of the prevailing water current or weather conditions.

C.3.Control Zone Definitions:

a. Columbia Control Zone—An area at the Columbia River mouth, bounded on the west by a line running northeast/southwest between red lighted Buoy #4 (46°13′ 35″ N. Lat., 124°06′ 50″ W. long.) and green lighted Buoy #7 (46°15′ 09″ N. lat., 124°06′ 16″ W. long.); on the east, by the Buoy #10 line which bears north/south at 357 true from the south jetty at 46°14′ 00″ N. lat., 124°03'07″ West. long. to its intersection with the north jetty; on the north, by a line running northeast/southwest between green lighted Buoy #7 to the tip of the north jetty (46°14′ 48″ N. lat., 124°05′ 20″ W. long.) and then along the north jetty to the point of intersection with the Buoy #10 line; and, on the south, by a line running northeast/southwest between red lighted Buoy #4 and tip of the south jetty (46°14′ 03″ N. lat., 124°04′ 05″ W. long.), and then along the south jetty to the point of intersection with the Buoy #10 line.

b. Klamath Control Zone—The ocean area at the Klamath River mouth bounded on the north by 41°38′ 48″ N. lat. (approximately 6 nm (11.1 km) north of the Klamath River mouth); on the west, by 124°23′ 00″ W. long. (approximately 12 nm (22.2 km) off shore); and, on the south, by 41°26′ 48″ N. lat. (approximately 6 nautical miles (11.1 km) south of the Klamath River mouth).

C.4. Inseason Management: Regulatory modifications may be necessary inseason to meet preseason management objectives such as quotas, harvest guidelines and season duration. Actions could include modifications to bag limits or days open to fishing, and extensions or reductions in areas open to fishing. NMFS may transfer coho inseason among recreational subareas north of Cape Falcon to help meet the recreational season duration objectives (for each subarea) after conferring with representatives of the affected ports and the Salmon Advisory Subpanel recreational representatives north of Cape Falcon. At the November, 2001 meeting, the Council will consider recommendation to open seasons for all salmon except coho prior to April 13, 2002, in areas off California between Pt. Arena and the U.S.-Mexico border. At the March, 2002 meeting, the Council will consider an inseason recommendation to open seasons for all salmon except coho prior to May 1, 2002, in areas off Oregon.

C.5. Additional Seasons in State Territorial Waters: Consistent with Council management objectives, the States of Washington and Oregon may establish limited seasons in state waters. Oregon state-water fisheries are limited to chinook salmon. Check state regulations for details.

Section 3. Treaty Indian Management Measures for 2001 Ocean Salmon Fisheries

Note: This section contains restrictions in parts A, B, and C which must be followed for lawful participation in the fishery.

A. Season Descriptions

Tribe and Area Boundaries | Open Seasons | Salmon Species | Minimum Size (inches): Chinook | Minimum Size (inches): Coho | Special Restrictions by Area
MAKAH—Washington State Statistical Area 4B and that portion of the FMA north of 48°02′15″ N. lat. (Norwegian Memorial) and east of 125°44′ 00″ W. long. | May 1 through earlier of June 30 or chinook quota. | All except coho | 24 |  | Barbless hooks No more than 8 fixed lines per boat or no more than 4 hand-held lines per person
| July 1 through earliest of September 15 or chinook or coho quota. | All | 24 | 16 |
QUILEUTE—That portion of the FMA between 48°07′ 36″ N. lat. (Sand Point) and 47°31′ 42″ N. lat. (Queets River) and east of 125°44′ 00″ W. long. | May 1 through earlier of June 30 or chinook quota. | All except coho | 24 |  | Barbless hooks. No more than 8 fixed lines per boat.
| July 1 through earliest of September 15 or chinook or coho quota. | All | 24 | 16 |
HOH—That portion of the FMA between 47°54′18″ N. lat. (Quillayute River) and 47°21′00″ N. lat. (Quinault River) and east of 125°44′00″ W. long. | May 1 through earlier of June 30 or chinook quota. | All except coho | 24 |  | Barbless hooks. No more than 8 fixed lines per boat.
| July 1 through earliest of September 15 or chinook or coho quota. | All | 24 | 16 |
QUINAULT—That portion of the FMA between 47°40′06″ N. lat. (Destruction Island) and 46°53′18″ N. lat. (Point Chehalis) and east of 125°44′00″ W. long | May 1 through earlier of June 30 or chinook quota. | All except coho | 24 |  | Barbless hooks No more than 8 fixed lines per boat.
| August 1 through earliest of September 15 or chinook or coho quota. | All | 24 | 16 |
* Metric equivalents: 24 in=61.0 cm, 16 in=40.6 cm.

B. Special Requirements, Restrictions, and Exceptions

B.1. All boundaries may be changed to include such other areas as may hereafter be authorized by a Federal court for that tribe's treaty fishery.

B.2. Applicable lengths for dressed, head-off salmon, are 18 in (45.7 cm) for chinook and 12 in (30.5 cm) for coho. Minimum size and retention limits for ceremonial and subsistence harvest are as follows:

Makah Tribe— None

Quileute, Hoh and Quinault tribes—Not more than 2 chinook longer than 24 in (61.0 cm) in total length may be retained per day. Chinook less than 24 in (61.0 cm) total length may be retained.

B.3. The area within a 6-mile (9.7 km) radius of the mouths of the Queets River (47°31′42″ N. lat.) and the Hoh River (47°45′12″ N. lat.) will be closed to commercial fishing. A closure within 2 miles (3.2 km) of the mouth of the Quinault River (47°21′00″ N. lat.) may be enacted by the Quinault Nation and/or the State of Washington and will not adversely affect the Secretary of Commerce's management regime.

C. Quotas

C.1. The overall treaty troll ocean quotas are 37,000 chinook and 90,000 coho. The overall chinook quota is divided into 18,500 chinook for the May/June chinook-directed fishery and 18,500 chinook for the July through September all-salmon season. If the chinook quota for the May/June fishery is not fully utilized, the excess fish cannot be transferred into the later all-salmon season. The quotas include troll catches by the S'Klallam and Makah tribes in Washington State Statistical Area 4B from May 1 through September 30.

Section 4. Halibut Retention

Under the authority of the Northern Pacific Halibut Act, NMFS promulgated regulations governing the Pacific halibut fishery which appear at 50 CFR part 300, subpart E. In addition, the 2001 Pacific halibut management measures were published in the Federal Register on March 21, 2001 (66 FR 15801). The regulations and management measures provide that vessels participating in the salmon troll fishery in Area 2A (all waters off the States of Washington, Oregon, and California), which have obtained the appropriate International Pacific Halibut Commission (IPHC) license, may retain halibut caught incidentally during authorized periods in conformance with provisions published with the annual salmon management measures. A salmon troller may participate in the halibut incidental catch fishery during the salmon troll season or in the directed commercial fishery targeting halibut, but not both.

The following measures have been approved by IPHC, and implemented by NMFS. The operator of a vessel who has been issued an incidental halibut harvest license by the IPHC may retain Pacific halibut caught incidentally in Area 2A, during authorized periods, while trolling for salmon. Incidental harvest is authorized only during the May and June troll seasons. It is also authorized after June 30 if halibut quota remains and if halibut retention is announced on the NMFS hotline (phone 800-622-9825). License holders may land no more than 1 halibut per each 3 chinook, except 1 halibut may be landed without meeting the ratio requirement, and no more than 35 halibut may be landed per trip. Halibut retained must meet the minimum size limit of 32 in (81.3 cm). The ODFW and WDFW will monitor landings and, if they are projected to exceed the 34,046-lb (15.5-mt) preseason allocation or the Area 2A non-Indian commercial total allowable catch of halibut, NMFS will take inseason action to close the incidental halibut fishery. License applications for incidental harvest must be obtained from the IPHC. Applicants must apply prior to April 1 of each year.

Section 5. Gear Definitions and Restrictions

In addition to the gear restrictions shown in Section 1, 2, and 3, the following gear definitions and restrictions are applicable:

Commercial Troll Fishing Gear: Troll fishing gear for the ocean salmon fisheries in the EEZ off Washington, Oregon, and California is defined as one or more lines that drag hooks behind a moving fishing vessel. In that portion of the fishery management area (FMA) off Oregon and Washington, the line or lines must be affixed to the vessel and must not be intentionally disengaged from the vessel at any time during the fishing operation.

Recreational Fishing Gear: Recreational fishing gear for the FMA is defined as angling tackle consisting of a line with no more than one artificial lure or natural bait attached. In that portion of the FMA off Oregon and Washington, the line must be attached to a rod and reel held by hand or closely attended; the rod and reel must be held by hand while playing a hooked fish. No person may use more than one rod and line while fishing off Oregon or Washington. In that portion of the FMA off California, the line must be attached to a rod and reel held by hand or closely attended. Weights directly attached to a line may not exceed 4 lb (1.8 kg). While fishing off California north of Point Conception, no person fishing for salmon and no person fishing from a boat with salmon on board may use more than one rod and line. Fishing includes any activity that can reasonably be expected to result in the catching, taking, or harvesting of fish.

Section 6. Geographical Landmarks

Wherever the words “nautical miles off shore” are used in this document, the distance is measured from the baseline from which the territorial sea is measured.

Geographical landmarks referenced in this document are at the following locations:

Cape Flattery | 48°23′00″ N. lat.
Cape Alava | 48°10′00″ N. lat.
Queets River | 47°31′42″ N. lat.
Leadbetter Point | 46°38′10″ N. lat.
Cape Falcon | 45°46′00″ N. lat.
Florence South Jetty | 44°00′54″ N. lat.
Humbug Mountain | 42°40′30″ N. lat.
Mack Arch | 42°13′40″ N. lat.
House Rock | 42°06′32″ N. lat.
Oregon-California Border | 42°00′00″ N. lat.
Humboldt South Jetty | 40°45′53″ N. lat.
Horse Mountain | 40°05′00″ N. lat.
Point Arena | 38°57′30″ N. lat.
Point Reyes | 37°59′44″ N. lat.
Point San Pedro | 37°35′40″ N. lat.
Pigeon Point | 37°11′00″ N. lat.
Point Sur. | 36°18′00″ N. lat.
Point Conception | 34°27′00″ N. lat

Section 7. Inseason Notice Procedures

Actual notice of inseason management actions will be provided by a telephone hotline administered by the Northwest Region, NMFS, 206-526-6667 or 800-662-9825, and by U.S. Coast Guard Notice to Mariners broadcasts. These broadcasts are announced on Channel 16 VHF-FM and 2182 KHz at frequent intervals. The announcements designate the channel or frequency over which the Notice to Mariners will be immediately broadcast. Inseason actions will also be filed with the Federal Register as soon as practicable. Since provisions of these management measures may be altered by inseason actions, fishermen should monitor either the telephone hotline or Coast Guard broadcasts for current information for the area in which they are fishing.

Classification

This notification of annual management measures is exempt from review under Executive Order 12866.

The Assistant Administrator for Fisheries, NOAA (AA) finds good cause under 5 U.S.C. 553(b)(B), to waive the requirement for prior notice and opportunity for public comment. As described earlier (Schedule Used to Establish 2001 Management Measures), the Council solicited public comment on these measures and has notified the public of the measures it recommended for implementation. Providing additional opportunity for prior notice and public comments on these measures through a rulemaking process would be impracticable and contrary to the public interest. Given the extremely low returns of many ocean salmon stocks listed under the ESA, the need to prevent overfishing, and the need to facilitate a level of escapement to meet the requirements of the resource and inside fisheries, it is essential to have these measures effective at the beginning of the fishing year. Failure to implement these measures immediately could compromise the status of certain stocks and negatively impact international, state, and tribal salmon fisheries, thereby undermining the purposes of this agency action.

For the reasons discussed earlier, the AA has determined that good cause exists to waive the requirements of 50 CFR 660.411 for prior notice and opportunity for public comments. Section 660.411 of title 50, Code of Federal Regulations, requires NMFS to publish an action implementing management measures for ocean salmon fisheries each year and, if time allows, invite public comment prior to the effective date. Section 660.411 further states that if, for good cause, an action must be filed without affording a prior opportunity for public comment, the measures will become effective; however, public comments on the action will be received for a period of 15 days after filing of the action with the Office of the Federal Register. NMFS will receive public comments on this action for 15 days from the date of filing this action for public inspection with the Office of the Federal Register.

The AA also finds that good cause exists under 5 U.S.C. 553(d)(3), to waive the 30-day delay in effectiveness of this rule. The finding of good cause is based upon the public's interest in having these provisions in place as early as possible in the ocean salmon fishing year. As previously discussed, these measures are essential to conserve threatened and endangered ocean salmon stocks, and to provide for harvest of more abundant stocks. The finding of good cause to waive the 30-day delay in effectiveness is also based on the limited time available to implement these new measures after the final Council meeting in April and before the commencement of the ocean salmon fishing year on May 1.

To enhance notification of the fishing industry of these new measures, NMFS is announcing the new measures over the telephone hotline used for inseason management actions and by U.S. Coast Guard Notice to Mariners Broadcast. NMFS is also advising the States of Washington, Oregon, and California on the new management measures. These states announce the seasons for applicable state and Federal fisheries through their own public notification systems.

This action contains collection-of-information requirements subject to the PRA, and which have been approved by OMB under control number 0648-0433. The public reporting burden for providing notifications if landing area restrictions cannot be met, or to obtain temporary mooring in Brookings, OR, is estimated to average 15 minutes per response. This estimate include the time for reviewing instructions, searching existing data sources, gathering and maintaining the data needed, and completing and reviewing the collection of information. Send comments regarding this burden estimate, or any other aspect of this data collection, including suggestions for reducing the burden, to NMFS and OMB (see ADDRESSES).

Notwithstanding any other provision of the law, no person is required to respond to, nor shall any person be subject to a penalty for failure to comply with, a collection of information subject to the requirements of the Paperwork Reduction Act (PRA), unless that collection of information displays a currently valid OMB control number.

Since 1989, NMFS has listed 16 ESUs of salmon on the West Coast. As the listings have occurred, NMFS has conducted formal ESA section 7 consultations (Table 1) and issued biological opinions (BOs) that consider the impacts to listed salmonid species resulting from proposed implementation of the salmon FMP, or in some cases, from proposed implementation of the annual management measures.

Table 1. NMFS’ biological opinions on ocean fisheries implemented under the salmon FMP and duration of the proposed action covered by each opinion.
Date | ESU covered and effective period
March 8, 1996 | Snake River chinook and sockeye (until reinitiated), Sacramento River winter chinook (6 years)
February 18, 1997 | Sacramento River winter chinook (5 years)
April 28, 1999 | Oregon coastal coho, S. Oregon/ N. California coastal coho, Central California coastal coho (until reinitiated)
April 28, 2000 | Central Valley spring chinook and California coastal chinook (until reinitiated)
April 30, 2001 | Upper Columbia River spring chinook, Upper Willamette River chinook, Lower Columbia River chinook, Puget Sound chinook (until reinitiated)

Based on these BOs, NMFS concludes that these management measures are not likely to jeopardize the continued existence of any ESU of salmon that is listed under the ESA. The Council's recommended management measures comply with the terms and conditions of the incidental take statements in all applicable BOs related to listed salmon species that may be affected by Council fisheries.

Authority: 16 U.S.C. 1801 et seq.

Dated: May 2, 2001.
John Oliver,
Acting Assistant Administrator for Fisheries, National Marine Fisheries Service.

[FR Doc. 01-11444 Filed 5-2-01; 4:25 pm]

BILLING CODE 3510-22-S